DEPARTMENT OF HEALTH AND HUMAN SERVICES

Food and Drug Administration

Statement of Organization, Functions, and Delegations of Authority

AGENCY: Food and Drug Administration, HHS.

ACTION: Notice; correction.

SUMMARY: The Food and Drug Administration (FDA) is correcting a notice entitled “Statement of Organization, Functions, and Delegations of Authority” that appeared in the Federal Register of August 14, 2023. The document announced amendments to the organization structure for FDA, Center for Devices and Radiological Health (CDRH), Office of Strategic Partnerships and Technology Innovation (OST). Although HHS approved these amendments on June 27, 2023, the Notice inadvertently omitted to include the following language: “FDA will not implement the new organizational structure until after the necessary requirements are completed.” This document corrects that error.

FOR FURTHER INFORMATION CONTACT: Denise Huttenlocker, Associate Director for Management, Office of Management, Center for Devices and Radiological Health, Food and Drug Administration, Bldg. 66, 10903 New Hampshire Ave., Silver Spring, MD 20993, 240-743- 1760.

SUPPLEMENTARY INFORMATION: In the Federal Register of August 14, 2023 (88 FR 55053), in FR Doc. 2023-17379, the following corrections are made:

1. On page 55053, in the second column, in the Dates section, after the first sentence, add “FDA will not implement the new organizational structure until after the necessary requirements are completed.”

2. On page 55053, in the third column, in section III., remove the first sentence and add in its place, “After completion of the necessary requirements for implementation, this reorganization will be reflected in FDA's Staff Manual Guide (SMG).”

Dated: August 17, 2023.
Elizabeth J. Gramling,
Executive Secretary to the Department, Department of Health and Human Services.

[FR Doc. 2023-18009 Filed 8-17-23; 4:15 pm]

BILLING CODE 4164-01-P